DEPARTMENT OF COMMERCE

International Trade Administration

[A-570-863]

Honey From the People's Republic of China: Final Results of Expedited Sunset Review of the Antidumping Duty Order

AGENCY: Import Administration, International Trade Administration, Department of Commerce.

SUMMARY: On July 2, 2012, the Department of Commerce (“the Department”) initiated the second five-year (“sunset”) review of the antidumping duty order on honey from the People's Republic of China (“PRC”) pursuant to section 751(c) of the Tariff Act of 1930, as amended (“the Act”).¹ On the basis of a notice of intent to participate and an adequate substantive response filed on behalf of the domestic interested parties, as well as a lack of response from respondent interested parties, the Department conducted an expedited sunset review of the antidumping duty order, pursuant to section 751(c)(3)(B) of the Act and 19 CFR 351.218(e)(1)(ii)(C)(2). As a result of this sunset review, the Department finds that revocation of the antidumping duty order on honey from the PRC would be likely to lead to continuation or recurrence of dumping at the levels indicated in the “Final Results of Review” section of this notice.

¹ See Initiation of Five-Year (“Sunset”) Review, 77 FR 39218 (July 2, 2012) (“Initiation”).

DATES: Effective Date: October 1, 2012.

FOR FURTHER INFORMATION CONTACT: Katie Marksberry, AD/CVD Operations, Import Administration, International Trade Administration, U.S. Department of Commerce, 14th Street and Constitution Avenue NW., Washington, DC 20230; telephone: (202) 482-7906.

SUPPLEMENTARY INFORMATION:

Background

On July 2, 2012, the Department initiated the second sunset review of the antidumping duty order on honey from the PRC, pursuant to section 751(c) of the Act and 19 CFR 351.218(c)(2).² The Department received a notice of intent to participate from American Honey Producers Association (“AHPA”) and the Sioux Honey Association (“SHA”) (collectively, “the domestic interested parties”) within the deadline specified in 19 CFR 351.218(d)(1)(i).³ The domestic interested parties claimed interested party status under section 771(9)(C) and (E) of the Act, as manufacturers of a domestic like product in the United States.

² See Initiation.

³ See Letter from domestic interested parties, re: Honey from the People's Republic of China, dated July 17, 2012.

We received a complete substantive response from the domestic interested parties within the 30-day deadline specified in 19 CFR 351.218(d)(3)(i).⁴ We received no responses from respondent interested parties. As a result, the Department conducted an expedited sunset review of the order, pursuant to section 751(c)(3)(B) of the Act and 19 CFR 351.218(e)(1)(ii)(C)(2).

⁴ See Letter from domestic interested parties, re: “Second Five-Year (“Sunset”) Review of the Antidumping Order on Honey from the People's Republic of China: Petitioners' Substantive Response,” dated August 1, 2012.

Scope of the Order

The products covered by the order are natural honey, artificial honey containing more than 50 percent natural honey by weight, preparations of natural honey containing more than 50 percent natural honey by weight and flavored honey. The subject merchandise includes all grades and colors of honey whether in liquid, creamed, comb, cut comb, or chunk form, and whether packaged for retail or in bulk form.

The merchandise subject to the order is currently classifiable under subheadings 0409.00.00, 1702.90.90, 2106.90.99, 0409.00.0010, 0409.00.0035, 0409.00.0005, 0409.00.0045, 0409.00.0056, and 0409.00.0065 of the Harmonized Tariff Schedule of the United States (“HTSUS”). Although the HTSUS subheadings are provided for convenience and customs purposes, the Department's written description of the merchandise under the order is dispositive.

Also included in the scope are blends of honey and rice syrup, regardless of the percentage of honey contained in the blend.

Analysis of Comments Received

All issues raised in this review are addressed in the “Issues and Decision Memorandum for the Expedited Sunset Review of the Antidumping Duty Order on Honey from the People's Republic of China” (“Decision Memorandum”) from Christian Marsh, Deputy Assistant Secretary for Antidumping and Countervailing Duty Operations, to Paul Piquado, Assistant Secretary for Import Administration, dated concurrently with and hereby adopted by this notice. The issues discussed in the Decision Memorandum include the likelihood of continuation or recurrence of dumping and the magnitude of the margins likely to prevail if the order was to be revoked. Parties may find a complete discussion of all issues raised in the review and the corresponding recommendations in this public memorandum which is on file electronically via Import Administration's Antidumping and Countervailing Duty Centralized Electronic Services System (“IA ACCESS”). Access to IA ACCESS is available in the Central Records Unit room 7046 of the main Commerce building. In addition, a complete version of the Decision Memorandum can be access directly on the Web at http://ia.ita.doc.gov/frn. The signed Decision Memorandum and the electronic versions of the Decision Memorandum are identical in content.

Final Results of Review

We determine that revocation of the Order would be likely to lead to continuation or recurrence of dumping at the following weighted-average percentage margins:

Exporter | Weight-averaged dumping margins (%)
Inner Mongolia Autonomous Region Native Produce and Animal By-Products Import and Export Corporation | 57.13
Kunshan Foreign Trade Co., Ltd | 49.60
Zhejiang Native Produce and Animal By-Products Import and Export Corporation | 25.88
High Hope International Group | 45.46
Shanghai Eswell Enterprise Co., Ltd | 45.46
Anhui Native Produce Import and Export Corp | 45.46
Henan Native Produce Import and Export Corp | 45.46
PRC-Wide Rate | 183.80

Notice Regarding Administrative Protective Order (“APO”)

This notice also serves as the only reminder to parties subject to APO of their responsibility concerning the return or destruction of proprietary information disclosed under APO in accordance with 19 CFR 351.305. Timely notification of the return of destruction of APO materials or conversion to judicial protective order is hereby requested. Failure to comply with the regulations and terms of an APO is a violation which is subject to sanction.

This sunset review and notice are in accordance with sections 751(c), 752(c), and 771(i)(1) of the Act.

Dated: September 24, 2012.
Paul Piquado,
Assistant Secretary for Import Administration.

[FR Doc. 2012-24108 Filed 9-28-12; 8:45 am]

BILLING CODE 3510-DS-P